DEPARTMENT OF DEFENSE

Department of the Navy

Privacy Act of 1974; System of Records

AGENCY: Department of the Navy, DoD.

ACTION: Notice to alter a system of records.

SUMMARY: The Department of the Navy is proposing to alter a system of records notice in its existing inventory of records systems subject to the Privacy Act of 1974, (5 U.S.C. 552a), as amended. The alteration expands the records being maintained, and adds a new purpose for collecting the records.

DATES: This proposed action will be effective without further notice on January 8, 2004, unless comments are received which result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The proposed system report, as required by 5 U.S.C. 552a(r) of the Privacy Act, was submitted on November 17, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: November 20, 2003.
Patricia L. Toppings,
Alternate OSD Federal Register Liaison Officer, Department of Defense.

N01070-6

System name:

Employee Explosives Certification Program (February 22, 1993, 58 FR 10698).

Changes:

System identifier:

Delete entry and replace with ‘NM01543-1’.

System name:

Delete entry and replace with ‘Explosives Handling Qualification/Certification Program’.

* * * * *

Categories of individuals covered by the system:

Delete entry and replace with ‘Navy, Marine Corps, civilian and contractor personnel involved in the process or evolution of explosives operations.’

Categories of records in the system:

Delete entry and replace with ‘Training records contain copies of the individual’s state driver's license, Social Security Number, date of birth, home and office addresses, medical certificate stating that an individual has passed an exam by a doctor and is authorized to handle explosives, forklift/government driver's license, date of exam and expiration date.’

Authority for maintenance of the system:

Delete entry and replace with ‘10 U.S.C. 5013, Departmental Regulations; 10 U.S.C. 5041, Headquarters, Marine Corps; OPNAVINST 8020.14/MCO P8020.11, Department of the Navy Explosives Safety Program; and E.O. 9397 (SSN).’

Purpose(s):

Delete entry and replace with ‘To record the names and training of all employees and their qualifications to work in certain categories of explosives operations.

To ensure all individuals performing explosives inspections can validate an individual's qualifications to perform a certain task.’

* * * * *

Storage:

Delete entry and replace ‘Paper and electronic media.’

Retrievability:

Delete entry and replace with ‘Name and/or Social Security Number.’

Safeguards:

Delete entry and replace with ‘Documents are marked ‘FOR OFFICIAL USE ONLY—PRIVACY SENSITIVE' and are only distributed to those persons having an official need to know. Computerized records are password protected and only accessible by those persons with an official need to know.’

Retention and disposal:

Delete entry and replace with ‘Retain on board and destroy three years after an employee terminates or is no longer involved in explosives processes.’

* * * * *

Record source categories:

Delete entry and replace with ‘Individual, personnel files, physician, and supervisor.’

* * * * *

NM01543-1

System name:

Explosives Handling Qualification/Certification Program.

System location:

Organization elements of the Department of the Navy. Official mailing addresses are published in the Standard Navy Distribution List that is available at http://www.neds.nebt.daps.mil/sndl.

Categories of individuals covered by the system:

Navy, Marine Corps, civilian and contractor personnel involved in the process or evolution of explosives operations.

Categories of records in the system:

Training records contain copies of the individual’s state driver's license, Social Security Number, date of birth, home and office addresses, medical certificate stating that an individual has passed an exam by a doctor and is authorized to handle explosives, forklift/government driver's license, date of exam and expiration date.

Authority for maintenance of the system:

10 U.S.C. 5013, Departmental Regulations; 10 U.S.C. 5041, Headquarters, Marine Corps; OPNAVINST 8020.14/MCO P8020.11, Department of the Navy Explosives Safety Program; and E.O. 9397 (SSN).

Purpose(s):

To record the names and training of all employees and their qualifications to work in certain categories of explosives operations.

To ensure all individuals performing explosives inspections can validate an individual's qualifications to perform a certain task.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and electronic media.

Retrievability:

Name and/or Social Security Number.

Safeguards:

Documents are marked ‘FOR OFFICIAL USE ONLY—PRIVACY SENSITIVE' and are only distributed to those persons having an official need to know. Computerized records are password protected and only accessible by those persons with an official need to know.

Retention and disposal:

Retain on board and destroy three years after an employee terminates or is no longer involved in explosives processes.

System manager(s) and address:

Policy Official: Commanding Officer, Naval Ordnance Safety and Security Activity, 23 Strauss Avenue, Farragut Hall, Building D-323, Indian Head, MD 20640-5035.

Record Holder: Commanding officer or head of the organization in question. Official mailing addresses are published in the Standard Navy Distribution List that is available at http://www.neds.nebt.daps.mil/sndl.

Notification procedure:

Individuals seeking to determine whether information about themselves is contained in this system should address written inquiries to the Commanding officer or head of the organization in question. Individuals may inspect personnel certifying documents at local activity to which individual assigned. Official mailing addresses are published in the Standard Navy Distribution List that is available at http://www.neds.nebt.daps.mil/sndl.

Record access procedures:

Individuals seeking access to information about themselves contained in this system should address written inquiries to the Commanding officer or head of the organization in question. Individuals may inspect personnel certifying documents at local activity to which individual assigned. Official mailing addresses are published in the Standard Navy Distribution List that is available at http://neds.nebt.daps.mil/sndl.

Contesting record procedures:

The Department of the Navy's rules for accessing records, and for contesting contents and appealing initial agency determinations are published in Secretary of the Navy Instruction 5211.5; 32 CFR part 701; or may be obtained from the system manager.

Record source categories:

Individual, personnel files, physician, and supervisor.

Exemptions claimed for the system:

None.

[FR Doc. 03-30403 Filed 12-8-03; 8:45 am]

BILLING CODE 5001-06-P